DEPARTMENT OF COMMERCE

National Oceanic and Atmospheric Administration

RIN: 0648-XJ25

Caribbean Fishery Management Council; Public Meetings

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on August 12-13, 2008. See SUPPLEMENTARY INFORMATION for specific dates and times.

ADDRESSES: The meetings will be held at the Buccaneer Hotel, Estate Shoys, Christiansted, St. Croix, U.S. Virgin Islands.

FOR FURTHER INFORMATION CONTACT: Caribbean Fishery Management Council, 268 Munoz Rivera Avenue, Suite 1108, San Juan, Puerto Rico 00918-1920; telephone: (787) 766-5926.

SUPPLEMENTARY INFORMATION: The Council will convene on Tuesday, August 12, 2008, from 9 a.m. to 5 p.m., and the Administrative Committee will meet from 5:15 p.m. to 6 p.m., on that same day. The Council will reconvene on Wednesday, August 13, 2008, from 9 a.m. to 5 p.m., approximately. Scoping meetings for Amendment 3 and 4 to the Consolidated Highly Migratory Species (HMS) Fishery Management Plan (FMP) will be held on August 13, 2008, from 9 a.m. to 11 a.m.

The Council will hold its 128th regular Council Meeting to discuss the items contained in the following agenda:

August 12, 2008

9 a.m. - 5 p.m.

Call to Order

Adoption of Agenda

Consideration of the 127th Council Meeting Verbatim Transcription

Executive Director's Report

Update Habitat Mapping NOS Studies - Mark Monaco

Annual Catch Limits/Accountability Measures (ACLs/AMs) Guidelines - Mark Millikin

Scientific and Statistical Committee (SSC) Report on ACLs and AMs - Barbara Kojis

Spiny Lobster “Size Limit for Imports” Final Action - Graciela Garcia-Moliner

Update Pilot Trap Vent Study - Julian Magras/Graciela Garcia-Moliner

PUBLIC COMMENT PERIOD (Five (5) minutes presentations)

5:15 p.m. - 6 p.m.

Administrative Committee Meeting

-Advisory Panel/Scientific and Statistical Committee/Habitat Advisory Panel (AP/SSC/HAP) Membership

-Budget 2008/09

-Statement of Organization Practices and Procedures (SOPPs) Amendment(s)

-Other Business

August 13, 2008

9 a.m. - 5 p.m.

9 a.m. - 11 a.m. - Scoping Sessions HMS

9 a.m. - 9:30 a.m.

-Amendment 3 to the Consolidated HMS FMP/Small Coastal Sharks

9:30 a.m. - 11 a.m.

-Amendment 4 to the Consolidated HMS FMP/Caribbean HMS Issues

11 a.m. - 5 p.m. - Continue Council Session

Bajo de Sico Survey Results - Jorge Garcia-Sais

Option Paper - Bajo de Sico/Permits/Trap Vents

Illegal Transport of Corals - Lisamarie Carrubba

Lionfish Invasion into the Caribbean Sea

Enforcement Reports

-Puerto Rico - DNER

-U.S. Virgin Islands - DPNR

-NOAA/NMFS

-U.S. Coast Guard

Administrative Committee Recommendations

Meetings Attended by Council Members and Staff

PUBLIC COMMENT PERIOD (Five (5) minutes presentations)

Other Business

-Limited Entry Deep-Water Fishery - Snapper Grouper - Puerto Rico

Next Council Meeting

-St. Thomas, U.S.V.I. - December 9-10, 2008 (tentative dates)

The meetings are open to the public, and will be conducted in English. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico, 00918-1920, telephone (787) 766-5926, at least 5 days prior to the meeting date.

Dated: July 23, 2008.
Tracey L. Thompson,
Acting Director, Office of Sustainable Fisheries, National Marine Fisheries Service.

[FR Doc. E8-17238 Filed 7-25-08; 8:45 am]

BILLING CODE 3510-22-S